DEPARTMENT OF STATE

[Public Notice 5081]

60-Day Notice of Proposed Information Collection: DS-7001 and SV-1999-011-A, DOS-Sponsored Academic Exchange Program Application and Evaluation, OMB Control No. 1405-0138

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: DOS-sponsored Academic Exchange Program Application and Evaluation.

• OMB Control Number: 1405-0138.

• Type of Request: Revision of a Currently Approved Collection.

• Originating Office: Bureau of Educational and Cultural Affairs, ECA/A/E/EUR.

• Form Number: N/A.

• Respondents: Applicants, current participants, and program alumni.

• Estimated Number of Respondents: 20,500.

• Estimated Number of Responses: 20,500.

• Average Hours Per Response: 0.74.

• Total Estimated Burden: 15,250.

• Frequency: On occasion.

• Obligation to Respond: Voluntary.

DATES: The Department will accept comments from the public up to 60 days from May 16, 2005.

ADDRESSES: You may submit comments by any of the following methods:

• E-mail: AlamiLT@state.gov. You must include the DS form number (if applicable), information collection title, and OMB control number in the subject line of your message.

• Mail (paper, disk, or CD-ROM submissions): ECA/A/E/EUR, Laura Alami, SA-44, Room 246, 301 Fourth Street, SW., Washington, DC 20547.

• Fax: 202-260-7985.

• Hand Delivery or Courier: Same as mailing address.

FOR FURTHER INFORMATION CONTACT: Direct requests for additional information regarding the collection listed in this notice, including requests for copies of the proposed information collection and supporting documents, to Laura Alami, U.S. Department of State, Bureau of Educational and Cultural Affairs, Room 246, 301 Fourth Street, SW., Washington, DC 20547, who may be reached on 202-260-5275 or AlamiLT@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This collection was formerly entitled Evaluation of DOS-sponsored Academic Exchange Programs. The Department of State collects this information to identify qualified candidates for, as well as to evaluate, the grants unit's academic exchange programs.

Methodology: The majority of data collection regarding the evaluation forms occurs on site with gathered groups of respondents at program events. Applications are submitted either electronically or through the mail.

Additional Information: None.

Dated: April 20, 2005.
Thomas Farrell,
Deputy Assistant Secretary for Academic Programs, Bureau of Educational and Cultural Affairs, Department of State.

[FR Doc. 05-9715 Filed 5-13-05; 8:45 am]

BILLING CODE 4710-05-P